DEPARTMENT OF THE INTERIOR

Fish and Wildlife Service

Information Collection Renewal Submitted to the Office of Management and Budget (OMB) for Approval Under the Paperwork Reduction Act; OMB Control Number 1018-0101; Monitoring Recovered Species After Delisting As Required Under Section 4(g) of the Endangered Species Act—American Peregrine Falcon

AGENCY: Fish and Wildlife Service, Interior.

ACTION: Notice; request for comments.

SUMMARY: The American peregrine falcon was removed from the List of Endangered and Threatened Wildlife on August 25, 1999. Section 4(g) of the Endangered Species Act (ESA) requires that all species that are recovered and removed from the List of Endangered and Threatened Wildlife (delisted) be monitored in cooperation with the States for a period of not less than 5 years. The purpose of this requirement is to detect any failure of a recovered species to sustain itself without the protections of the ESA. We (Fish and Wildlife Service) have submitted the collection of information described below to OMB for renewal under the provisions of the Paperwork Reduction Act of 1995.

DATES: You must submit comments on or before April 25, 2005.

ADDRESSES: Send your comments on this information collection requirement to the Desk Officer for the Department of the Interior at OMB-OIRA via fax at (202) 395-6566, or via e-mail at OIRA_DOCKET@omb.eop.gov. Also, please provide a copy of your comments to Hope Grey, Information Collection Clearance Officer, Fish and Wildlife Service, 4401 North Fairfax Drive, Mail Stop 222-ARLSQ, Arlington, Virginia 22203 (mail); (703) 358-2269 (fax); or Hope_Grey@fws.gov (e-mail).

FOR FURTHER INFORMATION CONTACT: To request a copy of the proposed information collection requirement, related forms, or explanatory material, contact Hope Grey at the above addresses or by telephone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Currently we have approval from OMB to collect information on the American peregrine falcon under OMB control number 1018-0101. This approval expires on March 31, 2005. We have submitted a request to OMB to renew approval of the information collection included in the “Monitoring Plan for the American Peregrine Falcon: A Species Recovered under the Endangered Species Act” (Monitoring Plan) (USFWS 2003). The monitoring plan is available on our Web site at http://endangered.fws.gov/recovery/peregrine/plan2003.pdf. We are requesting a 3-year term of approval for this information collection. Federal agencies may not conduct or sponsor and a person is not required to respond to a collection of information unless it displays a currently valid OMB control number. OMB has up to 60 days to approve or disapprove our information collection request, but may respond after 30 days. Therefore, to ensure that your comments receive consideration, send all comments and suggestions to OMB by the date listed in the DATES section.

We published a 60-day notice on this information collection renewal in the Federal Register on January 3, 2005 (70 FR 101) inviting public comment. In addition to publishing a Federal Register notice, we contacted seven non-Federal biologists who have used the forms previously and asked them to review each of the three forms associated with peregrine falcon monitoring and to comment on the clarity and relevance of the information collection, the burden associated with the collection, and whether there is something we could do to minimize the burden. We received a total of 10 comments, including three comments on the Federal Register notice.

We received one comment from an individual and comments from two States on the Federal Register notice. The individual did not express an opinion on the information collection itself, but took issue with the original delisting of peregrine falcons in 1999. One State supported the collection of American peregrine falcon monitoring data and stated that the information will have tremendous practical utility for both the State and the Service. That State supports the submission of forms via e-mail and also agreed with our burden estimates for completing the monitoring forms, but commented that the data collection itself could take more than 1 day. The other State commented that we should request OMB approval for the entire time frame needed for peregrine monitoring (until 2015) rather than submit several requests. This is not an option. By law, OMB can grant approval of information collections for a maximum of 3 years. That State was also concerned that, while the burden hours for completion of the forms was accurate, the Service does not account for the time necessary to locate, access, and monitor falcon eyries. The State recommended that we reevaluate the estimate of burden to incorporate these important aspects of monitoring and data collection. In response, we have included burden estimates for the time required to visit nest sites and record the data. The State also recommended that we account for the extra time it takes to collect contaminants samples. We did not include that estimate in the burden hours, because collecting contaminants samples is done opportunistically, in conjunction with some other activity at the nest site. It is rarely, if ever, the primary reason for visiting a nest. However, we have included the time it takes to process the contaminants samples.

The comments we received from our outreach effort were generally favorable and included some helpful suggestions for improving the forms. The commenters estimated the burden hours for completing the monitoring forms to be less than the hours we previously estimated.

Post-delisting monitoring, required by the ESA, tracks population trends of recovered species. Data for American peregrine falcons are collected by and reported back to professional biologists and volunteers according to the monitoring plan. Contaminants monitoring is included as part of the post-delisting monitoring for peregrine falcons because they are sensitive to contaminants in the environment, and contaminants could cause population declines in the future. Contaminants monitoring involves collection of addled eggs found in nests and parts of feathers from nestlings.

The Regional Migratory Birds and Habitat Programs and the Endangered Species offices use the information provided in the three monitoring forms (3-2307, 3-2308, and 3-2309) to track measures of reproductive success and levels of contaminants in American peregrine falcons. The nest monitoring data is reported on a 3-year interval, after each monitoring year. The contaminants monitoring is opportunistic, with sample size goals to be reached every 5 years. The results of contaminants monitoring will be reported after each 5-year interval. If we do not collect this data, we could not satisfy our responsibilities under the delisting monitoring requirements of section 4(g) of the Endangered Species Act (ESA) (16 U.S.C. 1533g).

Title: Monitoring Recovered Species After Delisting As Required Under Section 4(g) of the Endangered Species Act—American Peregrine Falcon.

Approval Number: 1018-0101.

Form Numbers: 3-2307, 3-2308, and 3-2309.

Frequency of Collection: 3-2307 (every 3 years); 3-2308 and 3-2309 (annually).

Description of Respondents: Individuals, not-for-profit institutions, Federal Government, States, tribes, and local governments

Monitoring forms | Total annual responses | Average burden hours per respondent | Annual burden hours
3-2307—Nest Monitoring Form (filling out the form) | 494 | 0.25 | 123.5
3-2307—Nest Monitoring Form (collecting the data) |  | 10 | 4,940
3-2308—Egg Contaminant Sheet | 12 | 1 | 12
3-2309—Feather Contaminant Sheet | 12 | .5 | 6
Total | 518 |  | 5081.5

We again invite comments concerning this information collection on: (1) Whether or not the collection of information is necessary for the proper performance of monitoring of recovered species as prescribed in section 4(g) of the ESA, including whether or not the information will have practical utility; (2) the accuracy of our estimate of burden, including the validity of the methodology and assumptions used; (3) ways to enhance the quality, utility, and clarity of the information for those who are to respond, including through the use of appropriate automated, electronic, mechanical, or other technological collection techniques or other forms of information technology; and (4) ways to minimize the burden of the collection of information on respondents. The information collections in this program will be part of a system of records covered by the Privacy Act (5 U.S.C. 552(a)).

Dated: March 21, 2005.
Hope Grey
Information Collection Clearance Officer, Fish and Wildlife Service.

[FR Doc. 05-5955 Filed 3-24-05; 8:45 am]

BILLING CODE 4310-55-P